DEPARTMENT OF THE INTERIOR

Bureau of Land Management

[CACA 47740, LLCAD07000 L51030000]

Notice of Intent To Prepare an Environmental Impact Statement/Staff Assessment and Proposed Land Use Plan Amendment for the Proposed SES Solar Two Project, Imperial County, CA

AGENCY: Bureau of Land Management, Interior.

ACTION: Notice.

SUMMARY: In compliance with the National Environmental Policy Act of 1969, as amended (NEPA), and the California Environmental Quality Act (CEQA), the Department of the Interior, Bureau of Land Management (BLM), together with the California Energy Commission (Energy Commission), (hereinafter jointly referred to as the Agencies) intend to prepare an Environmental Impact Statement/Staff Assessment (EIS/SA), and a Proposed Land Use Plan Amendment, for the Stirling Energy Systems (SES) Solar Two Project (Project), a Stirling engine systems solar dish project in Imperial County, California. SES is seeking approval to construct and operate an electrical generating facility with a nominal capacity of 750 megawatts (MW), using concentrated solar thermal power. The approximately 6,500 acres of land needed to develop the Project consists of approximately 6,140 acres of BLM administered public land and approximately 360 acres of privately owned land.

SES has submitted an application to the BLM requesting a right-of-way (ROW) to construct the Project and related facilities. Pursuant to the California Desert Conservation Area (CDCA) Plan (1980, as amended), sites associated with power generation or transmission not identified in the CDCA Plan will be considered through the plan amendment process.

Under Federal law, BLM is responsible for processing requests for rights-of-way to authorize such proposed projects and associated transmission lines and other appurtenant facilities on land it manages. BLM must comply with the requirements of NEPA to ensure that environmental impacts associated with construction, operation, and decommissioning will be identified, analyzed and considered in the application process. In the case of solar thermal power plant projects, this will be accomplished through coordination of the state and federal application processes, public participation, environmental analysis, and the preparation of Draft and Final Environmental Impact Statement (EIS) in coordination with the Energy Commission and its Preliminary and Final Staff Assessments.

Under California law, the Energy Commission is responsible for reviewing the applications for certification filed for thermal power plants over 50 MW, and also has the role of lead agency for the environmental review of such projects under the CEQA (Public Resources Code, section 25500 et seq.; and Public Resources Code, section 21000 et seq.) The Energy Commission conducts this review in accordance with the administrative adjudication provisions of the Administrative Procedure Act (Gov. Code, section 11400 et seq.) and its own regulations governing site certification proceedings (Cal. Code Regs., tit. 20, section 1701 et seq.), which have been deemed CEQA equivalent by the Secretary of Resources. SES Solar Two, LLC has submitted an Application for Certification (AFC) to the Energy Commission. The AFC facilitates analysis and review by staff prior to an Energy Commission decision.

DATES: Publication of this notice initiates a public scoping period of at least 30 days. During the public scoping period, the Agencies will solicit public comments on issues, concerns, potential impacts, alternatives, and mitigation measures that should be considered in the analysis of the proposed action. In addition, the Agencies expect to hold at least one public meeting/workshop during the scoping period to encourage public input. The public meeting(s) will be announced through the local news media, newspapers, mailings, the BLM Web page (http://www.ca.blm.gov/elcentro) and the Energy Commission Web page (http://www.energy.ca.gov/sitingcases/solartwo/) at least 15 days prior to the event. While you may have the opportunity to make oral comments, comments must also be submitted in writing. In order to be included in the Draft EIS/Preliminary Staff Assessment (DEIS/PSA), all comments must be received prior to the close of the scoping period or 15 days after the last public meeting, whichever is later. Additional opportunities for public participation and formal comment occur when the DEIS/PSA is issued.

ADDRESSES: You may submit comments in a variety of ways: (1) By U.S. mail, (2) by electronic mail, (3) or by attending the public scoping meeting(s) and submitting written comments at the meeting(s).

By Mail: Please use first-class postage and be sure to include your name and a return address. Please send written comment to: Christopher Meyer, Project Manager, Systems Assessment & Facility Siting Division, California Energy Commission, 1516 Ninth Street, MS-15, Sacramento, CA 95814.

By Electronic Mail: E-mail comments are welcome; however, please remember to include your name and return address in the e-mail message. E-mail messages should be sent to CMeyer@energy.state.ca.us.

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Information regarding the BLM process may be obtained from the Bureau of Land Management, 1661 So. 4th Street, El Centro, 92243, attention Lynda Kastoll, (760) 337-4421, lynda_kastoll@ca.blm.gov; or Erin Dreyfuss, (760) 337-4436, erin_dreyfuss@ca.blm.gov. Information regarding the Energy Commission process may be obtained from Christopher Meyer, Project Manager, Systems Assessment & Facility Siting Division, California Energy Commission, 1516 Ninth Street, MS-15, Sacramento, CA 95814, (916) 653-1639, CMeyer@energy.state.ca.us. Information on participating in the Commission's review of the project may be obtained through the Commission's Public Adviser's Office, at (916) 654-4489 or toll free in California, (800) 822-6228, or by email at PublicAdviser@energy.state.ca.us. News media inquiries should be directed to the Commission's media office at (916) 654-4989, or via email at mediaoffice@energy.state.ca.us.

Status of the proposed project, copies of notices, an electronic version of the AFC, and other relevant documents are also available on the Commission's internet Web site at http://www.energy.ca.gov/sitingcases/solartwo. You can also subscribe to receive e-mail notification of all notices at http://www.energy.ca.gov/listservers.

SUPPLEMENTARY INFORMATION: SES Solar Two, LLC has applied to BLM for a right-of-way on public lands to construct a concentrated solar thermal power plant facility approximately 14 miles west of El Centro, CA, in Imperial County. The project site is just south of Plaster City between the Union Pacific Railroad tracks and the Interstate 8 highway. The facility is expected to operate for approximately 30 years. The proposed project would utilize SunCatcher technology, consisting of approximately 30,000 25-kilowatt solar power dishes with a generating capacity of approximately 750 megawatts (MW) to be built in two phases. The first phase would consist up to 12,000 SunCathers configured in 200 1.5 MW solar groups of 60 SunCatchers per group and have a net nominal generating capacity of 300 MW. The second phase would consist of approximately 18,000 SunCatchers configured in 500 1.5 MW groups with a net generating capacity of 450 MW. Each SunCatcher system consists of an approximate 38-foot high by 40-foot wide solar concentrator dish that supports an array of curved glass mirror facets designed to automatically track the sun and focus solar energy onto a Power Conversion Unit which generates electricity. Related structures would include a main services complex, assembly buildings, a 230-kilovolts (kV) electrical substation, a 10-mile transmission line, access roads, supply water line, and a 10-mile double circuit 230kV transmission line from the project site to San Diego Gas and Electric's existing Imperial Valley electrical substation interconnecting the project to the existing 500 kV transmission system. The 450-MW Phase II is dependent on the approval of the proposed Sunrise Powerlink 500kV transmission line that would also interconnect with the Imperial Valley electrical substation. The EIS/SA will analyze the site-specific impacts on air quality, biological resources, cultural resources, water resources, geological resources and hazards, hazardous materials handling, land use, noise, paleontological resources, public health, socioeconomics, soils, traffic and transportation, visual resources, waste management and worker safety and fire protection, as well as facility design engineering, efficiency, reliability, transmission system engineering and transmission line safety and nuisance. The CDCA Plan, while recognizing the potential compatibility of solar generation facilities on public lands, requires that all sites associated with power generation or transmission not identified in the Plan will be considered through the Plan Amendment process.

The following Planning Criteria will be utilized during the plan amendment process:

• The plan amendment process will be completed in compliance with FLPMA, NEPA, and all other relevant Federal law, Executive orders, and management policies of the BLM;

• The plan amendment process will include an EIS that will comply with NEPA standards;

• Where existing planning decisions are still valid, those decisions may remain unchanged and be incorporated into the new plan amendment;

• The plan amendment will recognize valid existing rights;

• Native American Tribal consultations will be conducted in accordance with policy and Tribal concerns will be given due consideration. The plan amendment process will include the consideration of any impacts on Indian trust assets;

• Consultation with the SHPO will be conducted throughout the plan amendment process; and

• Consultation with USFWS will be conducted throughout the plan amendment process.

If the ROW and proposed land use plan amendment are approved by BLM, the concentrated solar thermal power plant facility on public lands would be authorized in accordance with Title V of the Federal Land Policy and Management Act of 1976 and the Federal Regulations at 43 CFR part 2800.

A certificate designating approval of the Energy Commission must be obtained by SES before it may construct a power plant and/or electric transmission line and related facilities.

Dated: October 10, 2008.
Thomas Pogacnik,
Deputy State Director, Natural Resources (CA-930), California State Office.

[FR Doc. E8-24685 Filed 10-16-08; 8:45 am]

BILLING CODE 4310-40-P